DEPARTMENT OF ENERGY

Federal Energy Regulatory Commission

Combined Notice of Filings #2

February 27, 2009.

Take notice that the Commission received the following electric rate filings:

Docket Numbers: ER09-752-000.

Applicants: Alliant Energy Neenah, LLC.

Description: Alliant Energy Neenah, LLC submits Notice of Cancellation of AE-Neenah's Rate Schedule 1, a market-based rate wholesale power sales tariff on file with the Commission.

Filed Date: 02/25/2009.

Accession Number: 20090226-0194.

Comment Date: 5 p.m. Eastern Time on Wednesday, March 18, 2009.

Docket Numbers: ER09-753-000.

Applicants: American Electric Power Service Corporation.

Description: American Electric Power Service Corporation submits FERC Electric Tariff, Third Revised Volume No 6.

Filed Date: 02/25/2009.

Accession Number: 20090226-0193.

Comment Date: 5 p.m. Eastern Time on Wednesday, March 18, 2009.

Docket Numbers: ER09-754-000.

Applicants: Florida Power Corporation.

Description: Florida Power Corporation submits requests for a waiver of the Commission's notice of filing requirement to allow the amended notice of termination provision to become effective 12/31/08.

Filed Date: 02/25/2009.

Accession Number: 20090226-0191.

Comment Date: 5 p.m. Eastern Time on Wednesday, March 18, 2009.

Docket Numbers: ER09-755-000.

Applicants: PJM Interconnection LLC.

Description: PJM Interconnection LLC submits modifications to its Open Access Transmission Tariff to comply with the Order Approving Contested Settlement issued by Commission on 4/10/08.

Filed Date: 02/25/2009.

Accession Number: 20090226-0192.

Comment Date: 5 p.m. Eastern Time on Wednesday, March 18, 2009.

Docket Numbers: ER09-756-000.

Applicants: Wisconsin Public Service Corporation.

Description: Wisconsin Public Service Corporation submits revised tariff sheet to reflect the actual 2008 value for billing for post-employment benefits and post-retirement benefits other than pensions.

Filed Date: 02/25/2009.

Accession Number: 20090226-0249.

Comment Date: 5 p.m. Eastern Time on Wednesday, March 18, 2009.

Docket Numbers: ER09-757-000.

Applicants: Midwest Independent Transmission System Operator, Inc.

Description: Midwest Independent Transmission System Operator, Inc. submits proposed revisions to its Open Access Transmission, Energy and Operating Reserve Markets Tariff, to revise the Section 7 etc.

Filed Date: 02/25/2009.

Accession Number: 20090226-0196.

Comment Date: 5 p.m. Eastern Time on Wednesday, March 18, 2009.

Docket Numbers: ER09-758-000.

Applicants: Southwest Power Pool, Inc.

Description: Southwest Power Pool, Inc submits revision to its Membership Agreement, Original Volume No 3.

Filed Date: 02/25/2009.

Accession Number: 20090226-0195.

Comment Date: 5 p.m. Eastern Time on Wednesday, March 18, 2009.

Docket Numbers: ER09-759-000.

Applicants: E. ON U.S. LLC.

Description: E. ON U.S. LLC submits an executed network integration transmission service agreement et al.

Filed Date: 02/25/2009.

Accession Number: 20090226-0246.

Comment Date: 5 p.m. Eastern Time on Wednesday, March 18, 2009.

Docket Numbers: ER09-760-000.

Applicants: Red Shield Acquisition, LLC.

Description: Red Shield Acquisition, LLC submits Amendment 1 to the Standby Facilities Use Agreement between RSA and PPL EnergyPlus, LLC and PPL Great Works, LLC.

Filed Date: 02/25/2009.

Accession Number: 20090226-0247.

Comment Date: 5 p.m. Eastern Time on Wednesday, March 18, 2009.

Docket Numbers: ER09-761-000.

Applicants: Central Illinois Public Service Company.

Description: Central Illinois Public Service Company submits Connection Construction Agreement Original Sheet 1 to FERC Electric Tariff, Rate Schedule 119 with AmerenCIPS et al.

Filed Date: 02/25/2009.

Accession Number: 20090226-0248.

Comment Date: 5 p.m. Eastern Time on Wednesday, March 18, 2009.

Docket Numbers: ER09-763-000.

Applicants: Wisconsin Energy Corporation Operating Companies.

Description: Wisconsin Energy Corporation Operating Companies submits proposed Second Revised Sheet 2 et al. to FERC Electric Tariff, Original Volume 2.

Filed Date: 02/26/2009.

Accession Number: 20090227-0196.

Comment Date: 5 p.m. Eastern Time on Thursday, March 19, 2009.

Docket Numbers: ER09-764-000.

Applicants: Wisconsin Electric Power Company.

Description: Wisconsin Electric Power Company submits clean and redlined tariff sheets deleting, amending, and revising certain schedules, terms and conditions in WEPC's FERC Electric Tariff, Second Revised Volume No 2.

Filed Date: 02/26/2009.

Accession Number: 20090227-0195.

Comment Date: 5 p.m. Eastern Time on Thursday, March 19, 2009.

Docket Numbers: ER09-765-000.

Applicants: Ameren Services Company.

Description: Ameren Services Company submits boundary line agreement by and between Illinois Power Company and Union Electric Company on file as FERC Rate Schedule No 100.

Filed Date: 02/26/2009.

Accession Number: 20090227-0194.

Comment Date: 5 p.m. Eastern Time on Thursday, March 19, 2009.

Docket Numbers: ER09-766-000.

Applicants: Central Illinois Public Service Company, Illinois Power Company, Union Electric Company.

Description: Central Illinois Public Service Company et al. submit revisions to the AmerenIP-AmerenUE Boundary Line Agreement under Rate Schedule No 88 and 100.

Filed Date: 02/26/2009.

Accession Number: 20090227-0193.

Comment Date: 5 p.m. Eastern Time on Thursday, March 19, 2009.

Docket Numbers: ER09-767-000.

Applicants: Ameren Services Company.

Description: Central Illinois Public Service Company submits a Letter Agreement between Ameren Services and Prairie Power, Inc. as agent for Eastern Illini Electric Coop, effective 2/27/09.

Filed Date: 02/26/2009.

Accession Number: 20090227-0192.

Comment Date: 5 p.m. Eastern Time on Thursday, March 19, 2009.

Docket Numbers: ER09-768-000.

Applicants: Saranac Power Partners, LP.

Description: Petition of Saranac Power Partners LP for authority to sell energy, capacity and ancillary services at market based rates acceptance of initial rate schedule, waivers, and blanket authority.

Filed Date: 02/26/2009.

Accession Number: 20090227-0191.

Comment Date: 5 p.m. Eastern Time on Thursday, March 19, 2009.

Docket Numbers: ER09-771-000.

Applicants: Entergy Services, Inc.

Description: Entergy Operating Companies submits an executed transmission service agreement with KCP&L Greater Missouri Operations Co etc.

Filed Date: 02/26/2009.

Accession Number: 20090227-0190.

Comment Date: 5 p.m. Eastern Time on Thursday, March 19, 2009.

Take notice that the Commission received the following electric securities filings:

Docket Numbers: ES08-41-001.

Applicants: El Paso Electric Company.

Description: Supplement to application of El Paso Electric Company for authorization under Section 204 for transactions related to refunding and reissuing pollution control bonds and request for shortened comment period and expedited consideration.

Filed Date: 02/25/2009.

Accession Number: 20090225-5123.

Comment Date: 5 p.m. Eastern Time on Thursday, March 05, 2009.

Take notice that the Commission received the following open access transmission tariff filings:

Docket Numbers: OA08-91-001.

Applicants: Black Hills Power, Inc.

Description: Black Hills Power, Inc submits revised pages of the Joint Open Access Transmission Tariff for the Common Use System, et al.

Filed Date: 02/20/2009.

Accession Number: 20090225-0004.

Comment Date: 5 p.m. Eastern Time on Friday, March 13, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E9-4748 Filed 3-5-09; 8:45 am]

BILLING CODE 6717-01-P